DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) allow the proposed information collection project: “AHRQ Grants Reporting System (GRS).” In accordance with the Paperwork Reduction Act of 1995, Public Law 104-13 (44 U.S.C. 3506(c)(2)(A)), AHRQ invites the public to comment on this proposed information collection.

This proposed information collection was previously published in the Federal Register on April 5, 2004 and allowed 60 days for public comment. No public comments were received. The purpose of this notice is to allow an additional 30 days for public comment.

DATES: Comments on this notice must be received by July 7, 2004.

ADDRESSES: Written comments should be submitted to: Cynthia D. McMichael, Reports Clearance Officer, AHRQ, 540 Gaither Road, Suite 5022, Rockville, MD 20850. Copies of the proposed collection plans, data collection instruments, and specific details on the estimated burden can be obtained from AHRQ's Reports Clearance Officer.

FOR FURTHER INFORMATION CONTACT: Cynthia D. McMichael, AHRQ, Reports Clearance Officer, (301) 427-1651.

SUPPLEMENTARY INFORMATION:

Proposed Project

“AHRQ Grants Reporting System (GRS)”

AHRQ has identified the need to establish a systematic method for grantees to report project progress and important preliminary findings for grants funded by the Agency.

The proposed system will address the shortfalls in the current reporting process and establish a consistent and comprehensive grants reporting solution for AHRQ. Currently, AHRQ receives grants continuation applications on an annual basis from all grantees. The progress report, which represents a portion of the annual continuation application, is inadequate because it is too infrequent and does not necessarily capture the information that AHRQ requires to respond to internal and external inquiries.

The reporting system will also provide a centralized repository of grants research information that can be used to support initiatives within the Agency's research plans for the future and to support activities such as performance monitoring, budgeting, knowledge transfer as well as strategic planning.

AHRQ currently conducts quarterly conference calls with some grantees. The content, frequency, and focus of these calls vary. In some grant programs, the number of participants on these calls may be so large as to prohibit quarterly updates from all participants in order to avoid creating an extremely lengthy conference call and to allow the Agency to address other important issues during these calls.

The GRS will support the timely collection of important information related to the life cycle of a grant. This information includes: Significant changes in project goals, methods, study design, sample or subjects, interventions, evaluation, dissemination, training, key personnel, key preliminary findings; significant problems and resolutions; publications and presentations; tools and products; and new collaborations/partnerships with AHRQ grantees or others conducting related research. Collecting this information in a systematic manner will:

• Promote the transfer of critical information more frequently and efficiently which will enhance the Agency's ability to support research designed to improve the outcomes and quality of health care, reduce its costs, and broaden access to effective services.

• Increase the efficiency of the Agency in responding to ad-hoc information requests, Freedom of Information Act requests, and producing responses related to federally mandated programs and regulations.

• Establish a consistent approach throughout the Agency for information collection about grant progress and a systematic basis for oversight and for facilitating potential collaborations with or among grantees.

• Decrease the inconvenience and burden on grantees of unanticipated ad-hoc requests for information by the Agency in response to particular (one-time) internal and external requests for information.

Data Confidentiality Provisions

Confidential commercial information will be protected in accordance with 18 U.S.C. 1905. Information about Principal Investigators will be maintained in accordance with the Privacy Act, 5 U.S.C. 552a.

The submitted reports will be printed and included in the official grant file for each grant. All of these files will be retained according to existing agency policies and procedures and archived as required.

Methods of Collection

The data will be collected using an Adobe Acrobat Portable Document Format (PDF) electronic reporting form developed specifically for the purpose of collecting information quarterly. To reduce burden and to the extent possible, these forms will be pre-populated with reoccurring information needed to specifically identify the institution, project, principal investigator, and other similar information.

Estimated Annual Respondent Burden
Survey | Number of respondents* | Estimated time per respondent in minutes | Estimated total burden hours | Estimated annual cost to the government
1st Quarter | 500 | 10 | 83.33 | 0
2nd Quarter | 500 | 10 | 83.33 | 0
3rd Quarter | 500 | 10 | 83.33 | 0
Annual Total | 1500 | 10 | 250 | 0
* The estimate for number of respondents for the initial implementation is 100 per quarter. The estimate included in the table assumes wider implementation by the Agency.
(There is currently an Annual Grants Progress Report that takes the place of having a 4th quarter report, which is the reason we only have 3 quarters. The estimate for number of respondents for the initial implementation is 100 per quarter. The estimate included in the table assumes wider implementation by the Agency.)

Request for Comments

In accordance with the above cited legislation, comments on the above described systematic grant oversight information collection are requested with regard to any of the following:

(a) Whether the proposed collection of information is necessary for the proper performance of functions of AHRQ, including whether the information will have practical utility; (b) the accuracy of AHRQ's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Dated: May 27, 2004.
Carolyn M. Clancy,
Director.

[FR Doc. 04-12656 Filed 6-4-04; 8:45 am]

BILLING CODE 4160-90-M